DEPARTMENT OF AGRICULTURE

Forest Service

Notice of New Fee Sites; Federal Lands Recreation Enhancement Act, (Title VIII, Pub. L. 108-447)

AGENCY: Medicine Bow—Routt National Forests, USDA Forest Service.

ACTION: Notice of New Fee Sites.

SUMMARY: The Medicine Bow—Routt National Forests, Laramie Ranger District, will begin charging $5.00/vehicle day use fees (Standard Amenity Recreation Fee) at five newly constructed trailhead/picnic areas along the Medicine Bow Rail-Trail (Pelton Creek, Vienna, Woods Creek, Lincoln Gulch, and Lake Owen), and at three existing developed trailheads (Albany, Ticks, and Mountain Home). Funds generated through these fees will be used for the continued operation and maintenance of these sites including, but not limited to: Restroom cleaning, trash pickup, waste removal, sign maintenance, law enforcement presence, and snow removal.

DATES: The sites will be open for use by July 2007.

ADDRESSES: Forest Supervisor, Medicine Bow—Routt National Forests, 2468 Jackson Street, Laramie, WY 82070.

FOR FURTHER INFORMATION CONTACT: Ray George, Recreation Program Manager, 307-745-2319.

SUPPLEMENTARY INFORMATION: The Federal Recreation Lands Enhancement Act (Title VII, Pub. L. 108-447) directed the Secretary of Agriculture to publish a six month advance notice in the Federal Register whenever new recreation fee areas are established.

The Medicine Bow—Routt National Forests currently has several other day use areas where the $5/vehicle day use fees are charged (Standard Amenity Recreation Fee). Many of these sites are often full to capacity on weekends. All requirements for the collection of fees as stipulated in the Federal Recreation Lands Enhancement Act have been, or will be, met for these sites prior to fee implementation.

Dated: October 17, 2006.
Mary H. Peterson,
Forest Supervisor, Medicine Bow—Routt National Forests.

[FR Doc. E6-17681 Filed 10-20-06; 8:45 am]

BILLING CODE 3410-11-P